DEPARTMENT OF ENERGY

Federal Energy Regulatory Commission

Combined Notice of Filings #1

Take notice that the Commission received the following electric corporate filings:

Docket Numbers: EC15-124-000.

Applicants: FR Kingfisher Holdings LLC, FR Kingfisher Holdings II LLC, MidAmerican Wind Tax Equity Holdings, LLC.

Description: Joint Application for Authorization under Section 203 of the Federal Power Act and Request for Confidential Treatment of FR Kingfisher Holdings LLC, et al. under EC15-124.

Filed Date: 4/16/15.

Accession Number: 20150416-5250.

Comments Due: 5 p.m. ET 5/7/15.

Take notice that the Commission received the following electric rate filings:

Docket Numbers: ER10-1942-012; ER10-2042-018; ER10-1941-007; ER11-3840-005; ER10-1938-013; ER13-1407-004; ER14-2931-002; ER10-1934-012; ER10-1893-012; ER10-1888-007; ER10-1885-007; ER10-1884-007; ER10-1883-007; ER10-1878-007; ER10-1876-007; ER10-1875-007; ER10-1873-007; ER12-1987-005; ER10-1947-007; ER10-1864-006; ER10-1862-012; ER12-2261-005; ER10-1865-007.

Applicants: Calpine Construction Finance Company, L.P., Calpine Energy Services, L.P., Calpine Gilroy Cogen, L.P., Calpine Greenleaf, Inc., Calpine Power America—CA, LLC, CCFC Sutter Energy, LLC, CES Marketing IX, LLC, Calpine Fore River Energy Center, LLC, CES Marketing X, LLC, Creed Energy Center, LLC, Delta Energy Center, LLC, Geysers Power Company, LLC, Gilroy Energy Center, LLC, Goose Haven Energy Center, LLC, Los Esteros Critical Energy Facility, LLC, Los Medanos Energy Center, LLC, Metcalf Energy Center, LLC, O.L.S. Energy-Agnews, Inc., Otay Mesa Energy Center, LLC, Pastoria Energy Facility, L.L.C., Power Contract Financing, L.L.C., Russell City Energy Company, LLC, South Point Energy Center, LLC, Calpine Construction Finance Company, LP

Description: Notification of Change in Status of the Calpine Southwest MBR Sellers.

Filed Date: 4/15/15.

Accession Number: 20150415-5335.

Comments Due: 5 p.m. ET 5/6/15.

Docket Numbers: ER15-1065-000.

Applicants: Balko Wind, LLC.

Description: Second Supplement to February 18, 2015 Balko Wind, LLC tariff filing.

Filed Date: 4/17/15.

Accession Number: 20150417-5087.

Comments Due: 5 p.m. ET 4/24/15.

Docket Numbers: ER15-1509-001.

Applicants: ISO New England Inc.

Description: Tariff Amendment per 35.17(b): Do Not Exceed Real-Time Dispatch to be effective 4/10/2016.

Filed Date: 4/16/15.

Accession Number: 20150416-5214.

Comments Due: 5 p.m. ET 5/7/15.

Docket Numbers: ER15-1520-000.

Applicants: Catalina Solar 2, LLC.

Description: Baseline eTariff Filing per 35.1: Catalina Solar 2 Concurrence to Shared Transmission Facilities Agreement to be effective 5/31/2015.

Filed Date: 4/16/15.

Accession Number: 20150416-5234.

Comments Due: 5 p.m. ET 5/7/15.

Docket Numbers: ER15-1521-000.

Applicants: Southern California Edison Company.

Description: § 205(d) rate filing per 35.13(a)(2)(iii): Amended LGIA for RE Astoria, Service Agreement No. 157 to be effective 6/16/2014.

Filed Date: 4/16/15.

Accession Number: 20150416-5238.

Comments Due: 5 p.m. ET 5/7/15.

Docket Numbers: ER15-1522-000.

Applicants: Pacific Gas and Electric Company.

Description: § 205(d) rate filing per 35.13(a)(2)(iii): Amendment to Kings River GIA and GSFA, TO Service Agreement No. 57 to be effective 4/15/2015.

Filed Date: 4/16/15.

Accession Number: 20150416-5239.

Comments Due: 5 p.m. ET 5/7/15.

Docket Numbers: ER15-1523-000.

Applicants: San Diego Gas & Electric Company.

Description: Compliance filing per 35: Certificate of Concurrence in LGIA to be effective 10/21/2014.

Filed Date: 4/17/15.

Accession Number: 20150417-5143.

Comments Due: 5 p.m. ET 5/8/15.

Docket Numbers: ER15-1524-000.

Applicants: PacifiCorp.

Description: § 205(d) rate filing per 35.13(a)(2)(iii): OATT Formula Rate—Schedule 10 Loss Factor to be effective 6/1/2015.

Filed Date: 4/17/15.

Accession Number: 20150417-5193.

Comments Due: 5 p.m. ET 5/8/15.

Docket Numbers: ER15-1525-000.

Applicants: The Connecticut Light and Power Company.

Description: § 205(d) rate filing per 35.13(a)(2)(iii): Amendment to CL&P and CMEEC WDS Agreement ? Electric Rate Schedule FERC No. WD-1 to be effective 6/16/2015.

Filed Date: 4/17/15.

Accession Number: 20150417-5206.

Comments Due: 5 p.m. ET 5/8/15.

Docket Numbers: ER15-1526-000.

Applicants: SIG Energy, LLLP.

Description: Notice of cancellation of MBR tariff of SIG Energy, LLLP.

Filed Date: 4/17/15.

Accession Number: 20150417-5218.

Comments Due: 5 p.m. ET 5/8/15.

Take notice that the Commission received the following electric securities filings:

Docket Numbers: ES15-16-000.

Applicants: DTE Electric Company.

Description: Application of DTE Electric Company For Authorization to Issue Securities.

Filed Date: 4/16/15.

Accession Number: 20150416-5252.

Comments Due: 5 p.m. ET 5/7/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2015.
Nathaniel J. Davis, Sr.,
Deputy Secretary.

[FR Doc. 2015-09471 Filed 4-22-15; 8:45 am]

BILLING CODE 6717-01-P